DEPARTMENT OF HOMELAND SECURITY

Coast Guard

[Docket No. USCG-2009-0166]

Nationwide Use of High Frequency and Ultra High Frequency Active SONAR Technology; Draft Programmatic Environmental Assessment and Draft Finding of No Significant Impact

AGENCY: Coast Guard, DHS.

ACTION: Notice of availability and request for comments.

SUMMARY: The U.S. Coast Guard (USCG) announces the availability of the Draft Programmatic Environmental Assessment (PEA) for the Nationwide Use of High Frequency (HF) and Ultra High Frequency (UHF) Sound Navigation and Ranging (SONAR) Technology and Draft Finding of No Significant Impact (FONSI). The USCG is proposing the nationwide use of active SONAR technologies that operate at frequencies of 50 kiloHertz (kHz) and greater from mobile platforms. Active SONAR technology would be used in support of USCG missions to locate, image, and classify submerged/underwater targets of interest (TOI). The PEA is a program-level document that will provide the USCG with management-level analysis of the potential impacts of each alternative on the human and natural environments.

DATES: Comments and related material must either be submitted to our online docket via http://www.regulations.gov on or before January 31, 2011, or reach the Docket Management Facility by that date.

ADDRESSES: The Draft PEA and Draft FONSI have been published and can be downloaded at http://www.regulations.gov, docket number USCG-2009-0166. You may submit comments identified by docket number USCG-2009-0166 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: Mr. Kenneth McDaniel (CG-532), Deputy Division Chief, Maritime Security (Counterterrorism), Coast Guard, by telephone 202-372-2119 or e-mail Kenneth.L.McDaniel@uscg.mil for questions regarding the Proposed Action; or Ms. Kebby Kelley (CG-47), Program Manager, USCG National Environmental Policy Act (NEPA)/Historic Resources, by telephone 202-475-5690 or e-mail Kebby.Kelley@uscg.mil regarding NEPA or to request a paper copy. If you have questions on viewing or submitting material to the docket, call Renee V. Wright, Program Manager, Docket Operations, telephone 202-366-9826.

SUPPLEMENTARY INFORMATION:

Public Participation and Request for Comments

We encourage you to submit comments and related materials on the draft PEA and draft FONSI. All comments received will be posted, without change, to http://www.regulations.gov and will include any personal information you have provided.

Submitting comments: If you submit a comment, please include the docket number for this notice (USCG-2009-0166) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2010-1104” in the “Keyword” box. Click “Search” then click on the balloon shape in the “Actions” column. If you submit your comments by mail or hand delivery, submit them in an unbound format, no larger than 8½; by 11 inches, suitable for copying and electronic filing. If you submit them by mail and would like to know that they reached the Facility, please enclose a stamped, self-addressed postcard or envelope. We will consider all comments and material received during the comment period.

Viewing the comments: To view the comments, go to http://www.regulations.gov, click on the “read comments” box, which will then become highlighted in blue. In the “Keyword” box insert “USCG-2009-0166” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Purpose of Proposed Action

The purpose of the Proposed Action is to broaden the USCG's capability to locate and classify underwater threats and other TOIs, and to more safely and effectively accomplish the USCG's missions. TOIs could include combat swimmers/divers; explosives or other offensive devices that could be delivered to underwater hulls, piers, or other shore structures; and objects that have become submerged as a result of a natural or man-made disaster and have the potential to interrupt maritime transportation, trade, commerce, recreational boating, or other maritime activities. The use of HF (50 to 999 kHz) and UHF (1,000 kHz and higher) active SONAR technology would provide USCG operational commanders with the ability to locate, image, and classify underwater threats and other TOIs. HF and UHF SONAR technology could be used in response to events such as: The attacks of September 11, 2001; natural disasters such as Hurricanes Katrina and Rita of 2005; established security areas around high-value vessels, infrastructure, and special security events; and maritime environmental response and search-and-rescue activities.

The USCG needs to broaden its capability to locate, image, and classify submerged/underwater TOIs to safely and efficiently accomplish mission activities. The USCG needs to detect targets in ranges of less than 2 kilometers and needs to operate in harbor, anchorage, channel, and wharf environments, including fresh, brackish, and salt waters, day or night regardless of visibility and in air and water temperatures and thermoclines normal for port/harbor and offshore environments throughout the United States. The USCG's current research of commercially available and reliable technology indicates that the nationwide employment of various HF and UHF active SONAR technology systems would provide the needed capability.

Proposed Use

HF and UHF SONAR use would fall into one of three general categories: (1) Operational missions, (2) training and exercises, and (3) research and development. All SONAR use would be of relatively short-term duration (typically less than a week, unless otherwise required for an emergency or disaster). Regardless of the category, such use would only be for the amount of time necessary to complete the mission objectives. In no case is the USCG proposing long-term deployments of SONAR equipment in fixed positions (unless required by an emergency or disaster). In general, the duration of SONAR use would be from minutes to as long as several days. Typically, the duration of most deployments would be less than a week; however, for environmental disasters such as the Deepwater Horizon oil spill, SONAR equipment could be used on-site until the emergency has ended. An example of a high-priority nonemergency operational mission is the anti-swimmer SONAR system that would provide security zone protection during a two-day special event. Once the event has concluded, the system would be shut down and removed.

The USCG proposes to use HF and UHF SONAR technology from mobile platforms nationwide. Mobile platforms include ships, boats, remotely operated vehicles (ROVs), and autonomous underwater vehicles (AUVs). Additionally, SONAR could be towed by a boat (i.e., a torpedo-shaped “towfish”), lowered from a boat on a pole, or temporarily fixed to a pier or a pile. Impacts on the seafloor from ROV and AUV operations would not be significant. ROVs would be used pierside or at a location appropriate for conducting vessel inspections. An appropriate location for inspection would be at a water depth that would preclude seafloor disturbance. As such, ROVs and AUVs would usually be suspended in the water column and would rarely contact the seafloor. Typically, ROVs and AUVs would be used in open, navigable waterways or safe anchorages. However, an ROV or AUV might contact the seafloor if there is a suspected threat on the seafloor that needs to be investigated; such contact would be short-term and transient in nature.

Although selected HF and UHF SONAR systems could be employed by any USCG unit to accomplish a mission, the USCG does not intend to permanently equip or outfit every USCG unit with SONAR capability. The HF and UHF SONAR systems selected could be powered using existing USCG power supplies such as public electrical distribution grids, shipboard electrical power, or portable generators (e.g., Honda 1,000-watt generator).

Scope of the Programmatic Environmental Assessment

The scope of the PEA focuses on potential impacts associated with the anticipated use of the HF and UHF SONAR systems to accomplish USCG mission activities. The PEA addresses potential impacts on living marine resources based on these operating criteria. Supplemental, follow-on NEPA documentation or additional consultations with appropriate resource authorities would be required if site-specific, non-mobile operating scenarios or newly developed technologies fall outside of the scope of this assessment. The scope of the PEA encompasses geographic locations where the systems are expected to operate.

The SONAR technology systems would be available for use by the USCG within all areas under USCG jurisdiction along the U.S. continental coastline, the Great Lakes, Hawaii, Alaska, United States territories, and inland operating areas. The inland operating areas would include existing harbor infrastructure and adjacent inland waters, including the St. Lawrence Seaway, the Great Lakes, and western and inland river systems. The offshore operating areas would include areas up to 12 nautical miles offshore and most areas shoreward. Normal locations for deployments would include the ports and waterways of the nation's top tiered militarily and economically significant ports. Emergency use of HF and UHF SONAR technology during times of extreme weather, such as hurricanes, could be required for onshore areas that become inundated by floodwater.

Public input is important to the preparation of the Final PEA. Your concerns and comments regarding the nationwide use of HF and UHF active SONAR technology and the possible environmental impacts are important to the USCG, and we encourage you to share them with us.

Authority: This notice is issued under authority of 42 U.S.C. 4321, et seq., and 40 CFR 1508.22.

Dated: December 14, 2010.
Michael Mohn,
Captain, U.S. Coast Guard, Chief, Office of Terrorism and Defense Operations.

[FR Doc. 2010-32465 Filed 12-23-10; 8:45 am]

BILLING CODE 9110-04-P